DEPARTMENT OF THE INTERIOR

National Park Service

[NPS-WASO-NAGPRA-20685; PPWOCRADN0-PCU00RP14.R50000]

Notice of Inventory Completion: Kansas State Historical Society, Topeka, KS

AGENCY: National Park Service, Interior.

ACTION: Notice.

SUMMARY: The Kansas State Historical Society has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Kansas State Historical Society. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Kansas State Historical Society at the address in this notice by May 23, 2016.

ADDRESSES: Dr. Robert J. Hoard, Kansas State Historical Society, 6425 SW. 6th Avenue, Topeka, KS 66615, telephone (785) 272-8681 x269, email rhoard@kshs.org.

SUPPLEMENTARY INFORMATION: Notice is here given in accordance with the Native American Graves Protection and Repatriation Act (NAGPRA), 25 U.S.C. 3003, of the completion of an inventory of human remains and associated funerary objects under the control of the Kansas State Historical Society, Topeka, KS. The human remains and associated funerary objects were removed from somewhere near Port Williams, in Atchison County, KS.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Kansas State Historical Society professional staff in consultation with representatives of the Kickapoo Tribe of Indians of the Kickapoo Reservation in Kansas.

History and Description of the Remains

In late 1916 or early 1917, human remains representing, at minimum, one individual were removed from an unnamed and unrecorded site somewhere near Port Williams in Atchison County, KS, by George Remsberg, a well-known amateur archeologist. Remsberg reported that he excavated a relatively recent Native American burial in Atchison County, KS, from the Bluma family farm near Walnut Creek, though he does not specify the location. This area was Kickapoo land from 1832 to 1854. The association of a string of glass beads indicated a relatively recent burial. The human remains consist of a cranium and an associated mandible. The cranium was determined to be that of a 20-30 year old male of mixed ancestry. No known individuals were identified. The 168 associated funerary objects are 1 lot of glass beads, 5 chert chips, 1 mussel shell section, 1 stone, 63 non-human skeletal elements, and 97 pottery sherds.

Remsberg sent some materials he collected in Kansas to Wallingford Historical Society in Connecticut in 1917. That institution returned the materials to the Kansas State Historical Society on April 20, 1990.

Determinations Made by the Kansas State Historical Society

Officials of the Kansas State Historical Society have determined that:

• Pursuant to 25 U.S.C. 3001(9), the human remains described in this notice represent the physical remains of 1 individual of Native American ancestry.

• Pursuant to 25 U.S.C. 3001(3)(A), the 168 objects described in this notice are reasonably believed to have been placed with or near individual human remains at the time of death or later as part of the death rite or ceremony.

• Pursuant to 25 U.S.C. 3001(2), there is a relationship of shared group identity that can be reasonably traced between the Native American human remains and associated funerary objects and the Kickapoo Tribe of Indians of the Kickapoo Reservation in Kansas.

Additional Requestors and Disposition

Lineal descendants or representatives of any Indian tribe or Native Hawaiian organization not identified in this notice that wish to request transfer of control of these human remains and associated funerary objects should submit a written request with information in support of the request to Dr. Robert J. Hoard, Kansas State Historical Society, 6425 SW. 6th Avenue, Topeka, KS 66615, telephone (785) 272-8681 x269, email rhoard@kshs.org, by May 23, 2016. After that date, if no additional requestors have come forward, transfer of control of the human remains and associated funerary objects to the Kickapoo Tribe of Indians of the Kickapoo Reservation in Kansas may proceed.

The Kansas State Historical Society is responsible for notifying the Kickapoo Tribe of Indians of the Kickapoo Reservation in Kansas that this notice has been published.

Dated: March 22, 2016.
Melanie O'Brien,
Manager, National NAGPRA Program.

[FR Doc. 2016-09261 Filed 4-20-16; 8:45 am]

BILLING CODE 4312-50-P